DEPARTMENT OF HEALTH AND HUMAN SERVICES

Substance Abuse and Mental Health Services Administration

Funding Opportunity Title: State Mental Health Data Infrastructure Grants for Quality Improvement (Short Title: State Mental Health DIG)

Announcement Type: Initial.

Funding Opportunity Number: SM 04-005.

Catalog of Federal Domestic Assistance (CFDA) Number: 93.243.

Due Date for Applications: June 16, 2004.

Note: letters from State Single Point of Contact (SPOC) in response to E.O. 12372 are due August 15, 2004.

SUMMARY: The Substance Abuse and Mental Health Services Administration (SAMHSA), Center for Mental Health Services (CMHS), announces the availability of FY 2004 funds for the State Mental Health Data Infrastructure Grants for Quality Improvement program. A synopsis of this funding opportunity, as well as many other Federal Government funding opportunities, is also available at the Internet site: http://www.grants.gov.

For complete instructions, potential applicants must obtain a copy of SAMHSA's standard Infrastructure Grants Program Announcement (INF-04 PA [MOD]), and the PHS 5161-1 (Rev. 7/00) application form before preparing and submitting an application. The INF-04 PA (MOD) describes the general program design and provides instructions for applying for all SAMHSA Infrastructure Grants, including the State Mental Health Data Infrastructure Grants for Quality Improvement. Additional instructions and specific requirements to the State Mental Health Data Infrastructure Grants for Quality Improvement program are described below.

I. Funding Opportunity Description

Authority: Sections 1971 of the Public Health Service Act (42 U.S.C.300y) and 520A of the Public Health Service Act, as amended and subject to the availability of funds.

The State Mental Health DIG program is one of SAMHSA's Infrastructure Grants programs. SAMHSA's Infrastructure Grants provide funds to increase the capacity of mental health and/or substance abuse systems to support programs and services. SAMHSA's State Mental Health DIG program is intended to fund State Mental Health authorities to develop or enhance their data infrastructure to improve management of mental health service delivery. The Data Infrastructure Grants are also a link in CMHS's ongoing efforts to implement the President's New Freedom Commission in building community systems of care.

The overall goal of the State Mental Health DIG program is to improve the State and local mental health data infrastructure, with a special focus on implementing new Community Mental Health Services Block Grant (MHBG) measures. The program also is a key element of a broader plan to increase State flexibility and improve accountability, generally referred to as Performance Partnership Block Grants (PPGs). Specific program goals include: adoption of common data and information technology standards at the local level and improvement in program management/decision support, planning, and service quality improvement through better information at both State and local levels. Allowable activities for these grants are limited to activities that will support State and local data infrastructure development. Funds may not be used to pay for computer hardware. Software expenditures will be considered on a case-by-case basis.

Background: Since its inception, CMHS has engaged in the development of statistical data standards and related data infrastructure to assist State mental health agencies, local public providers, and private sector entities in better management and program planning, as well as service quality improvement. Without adequate data systems to record information in a comparable way, there can be no reporting of useful information. Hence, evidence-based management, planning with quantitative information, and good measures of program effectiveness, are only possible if comparable data standards are used to record data. There is great need for sound State and local data infrastructure so that State mental health agencies can report performance measures that lead to service quality improvement, better system management, and quantitative planning. As an initial grant effort, the CMHS Mental Health Data Infrastructure Grant, tested basic and developmental performance measures to be implemented in the MHBG. Forty-nine States, the District of Columbia, and 7 Territories participated in this 3-year grant program. Selected performance measures from this grant initiative will be incorporated into the PPGs in the future.

Presently, however, much remains to be done. Although the previous CMHS grant program tested the proposed MHBG measures, it did not build the local data infrastructure necessary to achieve comparable, Statewide reporting based on common data standards. Similarly, it did not implement key data standards and information technology necessary for quantitative planning and service quality improvement; being developed through the SAMHSA Decision Support 2000+ Initiative. Finally, it did not address the implementation of Health Insurance Portability and Accountability Act (HIPAA) measures required for key health insurance and payment transactions. The State Mental Health DIG will address these specific needs.

II. Award Information

Estimated Funding Available/Number of Awards: It is expected that up to $8.25 million will be available in FY 2004. SAMHSA expects to fund 51 awards, of up to $150,000 per year in total costs (direct and indirect) per year for 3 years for mental health authorities in the 50 States and the District of Columbia, and 8 awards, of up to $75,000 per year in total costs (direct and indirect), per year for 3 years for mental health authorities in the U.S. Territories. Only Category 1-Small Infrastructure Grant awards, as defined in the INF-04 PA (MOD), will be made. Proposed budgets cannot exceed the allowable amount in any year of the proposed project. The actual amount available for the awards may vary, depending on unanticipated program requirements and the number and quality of the applications received. Annual continuations will depend on the availability of funds, grantee progress in meeting program goals and objectives, and timely submission of required data and reports.

2. Funding Instrument: Grant.

III. Eligibility Information

1. Eligible Applicants are limited to State Mental Health authorities in the 50 States, the District of Columbia, and the U.S. Territories. A central goal of the State Mental Health DIG grants is to address State mental health planning efforts, particularly in addressing data collection for the Community Mental Health Services Block Grants (CMHSBG) as they transition to PPGs. Only the State Mental Health authorities are eligible for the CMHSBG. Additional information regarding program requirements and applications formatting requirements is provided in the INF-04 PA (MOD) in Section III-3. These eligibility criteria supersede the criteria specified in Section III-1 of the INF-04 PA (MOD).

2. Cost Sharing or Matching is required. The statutory authorization for this program, Section 1971 (c)(1) of the Public Health Service Act (42 U.S.C.300y(c) (1)), states that, “(1) With respect to the costs of the program to be carried out under subsection (a) of this section by a State, the Secretary may make an award under such subsection only if the applicant agrees to make available (directly or through donations from public or private entities) non-Federal contributions toward such costs in an amount that is not less than 50 percent of such costs. (2) Non-Federal contributions under paragraph (1) may be in cash or in kind, fairly evaluated, including plant, equipment, or services. Amounts provided by the Federal Government, or services assisted or subsidized to any significant extent by the Federal Government, may not be included in determining the amount of such contributions.”

3. Other: Applicants must also meet certain application formatting and submission requirements or the application will be screened out and will not be reviewed. These requirements are described in Section IV-2 below as well as in the INF-04 PA (MOD).

IV. Application and Submission Information

1. Address to Request Application Package: Complete application kits may be obtained from the National Mental Health Information Center at 1-800-789-2647. When requesting an application kit for this program, the applicant must specify the funding opportunity (State Mental Health DIG) and the funding opportunity number (SM 04-005). All information necessary to apply, including where to submit applications and application deadline instructions, are included in the application kit. The PHS 5161-1 application form is also available electronically via SAMHSA's World Wide Web Home page: http://www.samhsa.gov (Click on ‘Grant Opportunities’) and the INF-04 PA (MOD) is available electronically at http://www.samhsa.gov/grants/2004/standard/Infrastructure/index.asp.

When submitting an application, be sure to type “SM 04-005/State Mental Health DIG” in Item Number 10 on the face page of the application form. Also, SAMHSA applicants are required to provide a DUNS number on the face page of the application. To obtain a DUNS Number, access the Dun and Bradstreet Web site at http://www.dunandbradstreet.com or call 1-866-705-5711.

2. Content and Form of Application Submission: Information including required documents, required application components, and application formatting requirements is available in the INF-04 PA (MOD) in Section IV-2.

Checklist for Application Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

☐ Use the PHS 5161-1 application.

☐ Applications must be received by the application deadline. Applications received after this date must have a proof of mailing date from the carrier dated at least 1 week prior to the due date. Private metered postmarks are not acceptable as proof of timely mailing. Applications not received by the application deadline or not postmarked at least 1 week prior to the application deadline will not be reviewed.

☐ Information provided must be sufficient for review.

☐ Text must be legible.

• Type size in the Project Narrative cannot exceed an average of 15 characters per inch, as measured on the physical page. (Type size in charts, tables, graphs, and footnotes will not be considered in determining compliance.)

• Text in the Project Narrative cannot exceed 6 lines per vertical inch.

☐ Paper must be white paper and 8.5 inches by 11.0 inches in size.

☐ To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

☐ The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

☐ The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard Form LLL, which is in PHS 5161-1)

• Checklist (a form in PHS 5161-1)

☐ Applications should comply with the following requirements:

• Provisions relating to confidentiality, participant protection and the protection of human subjects, as indicated in the specific funding announcement.

• Budgetary limitations as indicated in Sections I, II, and IV-5 of the specific funding announcement.

• Documentation of nonprofit status as required in the PHS 5161-1.

☐ Pages should be typed single-spaced with one column per page.

☐ Pages should not have printing on both sides.

☐ Please use black ink, and number pages consecutively from beginning to end so that information can be located easily during review of the application. The cover page should be page 1, the abstract page should be page 2, and the table of contents page should be page 3. Appendices should be labeled and separated from the Project Narrative and budget section, and the pages should be numbered to continue the sequence.

☐ Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by June 16, 2004. You will be notified by postal mail that your application has been received. Additional submission information is available in the INF-04 PA (MOD) in section IV-3.

4. Intergovernmental Review: Applicants for this funding opportunity must comply with Executive Order 12372 (E.O. 12372). E.O. 12372, as implemented through Department of Health and Human Services regulation at 45 CFR Part 100, sets up a system for State and local review of applications for Federal financial assistance. Instructions for complying with E.O. 12372 are provided in the INF-04 PA (MOD) in Section IV-4. A current listing of State Single Points of Contact (SPOCs) is included in the application kit and is available at http://www.whitehouse.gov/omb/grants/spoc.html.

5. Funding Restrictions: Information concerning funding restrictions is available in the INF-04 PA (MOD) in Section IV-5.

V. Application Review Information

1. Evaluation Criteria: Applications will be reviewed against the Evaluation Criteria and requirements for the Project Narrative specified in the INF-04 PA (MOD), but the allocation of points to each section of the Project Narrative should be disregarded. Each section of the Project Narrative should be given equal weight. SAMHSA intends to fund all States and Territories; however, applications must have sufficient merit. A comprehensive review of each application will be conducted to determine the acceptability of individual projects as well as technical assistance needs. Applicants only need to plan and budget for up to two people to attend one day and a half grantee meeting per year. The following information describes exceptions or limitations to the INF-04 PA (MOD) and provides special requirements that pertain only to State Mental Health DIG grants. Applicants must discuss the following requirements in their applications, in addition to the requirements specified in the INF-04 PA (MOD):

1.1 In “Section A: Statement of Need”

a. Applicants must include an assessment of the States' ability to provide data to complete the required Uniform Reporting System (URS) data tables for the CMHS/MHBG (data pertaining to the basic and developmental performance measures). A listing of all required data tables is provided in Appendix A to this NOFA.

b. Applicants must include an assessment of the State's readiness to implement web-based information technology for the purpose of collecting, analyzing and reporting required performance measures.

c. Applicants must provide a full description of the current SMHA information system, as well as challenges that remain in data collection and reporting. In Appendix 5, please indicate how the State Mental Health Strategic Plan will incorporate grant data goals.

1.2 In “Section B: Proposed Approach”

a. Applicants must clearly identify the activities to be funded through the proposed project and demonstrate that they will lead to improved State and local mental health data infrastructure. Implementation Pilots noted (p.5) in the INF-04 PA (MOD) are not a part of this grant application.

b. Applicants must include a detailed work plan for State data recording and reporting in the project.

c. Applicants must include plans to develop and adopt data standards that promote improved management, service quality improvement, and compliance with HIPAA requirements.

d. Applicants must include plans to introduce web-based information technology to improve State mental health agency management, planning, and performance measurement. Both the data standards and the information technology of Decision Support 2000+ (DS2000+) shall be considered in developing State and local data systems.

e. Applicants must describe plans for data collection, management, analysis, interpretation and reporting. Data collection instruments/interview protocols should be included in “Appendix 2.”

1.3 In “Section C: Staff, Management, and Relevant Experience:”

Applicants must identify required project staff, including one Principal Investigator who is a State data representative and a co-Principal Investigator who is a State planner representative.

1.4 In “Section D: Evaluation and Data:”

Applicants must indicate how the project will be evaluated, including evaluation by stakeholder groups in “Section D: Evaluation and Data” of their applications.

In addition, all SAMHSA grantees are required to collect and report certain data, so that SAMHSA can meet its obligation under the Government Performance and Results Act (GPRA). Grantees of the State Mental Health Data Infrastructure Grants for Quality Improvement program will be required to report URS data (see Appendix A to this NOFA). SAMHSA will assess grantee performance by measuring State progress in reporting the URS data.

2. Review and Selection Process: Information about the review and selection process is available in the INF-04 PA (MOD) in Section V-2.

VI. Award Administration Information

Award administration information, including award notices, administrative and national policy requirements, and reporting requirements are available in the INF-04 PA (MOD) in Section VI. SAMHSA's standard terms and conditions are available at http://www.samhsa.gov/grants/2004/useful_info.asp.

VII. Agency Contact for Additional Information

For questions concerning program issues, contact: Olinda González, Ph.D., Center for Mental Health Services, 5600 Fishers Lane, Room 15C-04, Rockville, MD 20857; 301-443-2849; e-mail: ogonzale@samhsa.gov. For questions on grants management issues, contact: Gwendolyn Simpson, SAMHSA/Division of Grants Management, 5600 Fishers Lane, Room 13-103, Rockville, MD 20857; 301-443-4456; e-mail: gsimpson@samhsa.gov.

Appendix A: CMHS Uniform Reporting System (URS) Measures for the Mental Health Block Grant Program

Basic Measures (existing)

Table 1. Profile of the State Population by Diagnosis

Source: Center for Mental Health Services

Table 2. Profile of Clients Served, All Programs, by Age, Gender and Race/Ethnicity

Source: Administrative Data Systems (Core Measure)

Table 3A. Profile of Clients Served in Community Mental Health Settings by Homeless Status

Source: Administrative Data Systems

Table 3B. Profile of Clients Served in State Psychiatric Hospitals and Other Inpatient Settings

Source: State Hospital or Other Inpatient Administrative Data Systems

Table 4. Profile of Adult Clients by Employment Status

Source: Administrative Data Systems (Core Measure)

Table 5. Profile of Clients by Type of Funding Support (Medicaid/Non-Medicaid)

Source: Administrative Data Systems

Table 6. Profile of Client Turnover

Source: Administrative Data Systems

Table 7. Profile of State Mental Health Agency Service Expenditures and Sources of Funding

Source: National Association of Mental Health Program Directors' Research Institute

Table 8. Profile of Community Mental Health Block Grant Expenditures for Non-Direct Service Activities

Source: State Mental Health Agency Fiscal Systems

Table 9. Public Mental Health Service System Inventory Checklist

Source: State Mental Health Agency

Table 10. Profile of Agencies Receiving Block Grant Funds Directly from the State Mental Health Authority

Source: State Mental Health Agency

Table 11. Summary Profile of Client Evaluation of Care

Source: State Mental Health agency Statewide Surveys

State PPG Core and OMB PART Measure

Table 12. State Mental Health agency Profile

Source: Administrative Data Systems

Developmental Measures (measures under development)

Table 13. Profile of Unmet and Inappropriately Treated Needs of the State Population

Source: Center for Mental Health Services

Table 14. Profile of Clients Served with Serious Mental Illness (SMI) and Serious Emotional Disturbance (SED), All Programs by Age, Gender, and Race/Ethnicity

Source: Administrative Data Systems

Table 15. Profile of Clients' Living Situation in Institutional and Non-Institutional Settings

Source: Administrative Data Systems (Core Measure)

Table 16. Profile of Clients with Serious Mental Illness (SMI) and Clients with Serious Emotional Disturbance (SED) receiving Evidence-based Services (Supported Housing, Supported Employment, Assertive Community Treatment-Adults, and Therapeutic Foster Care-Children)

Source: Administrative Data Systems (Core Measure)

Table 17. Profile of Adult Clients with Serious Mental Illness (SMI) receiving Evidence-Based Services of Family Psychoeducation, Integrated Treatment for Co-occurring Disorders, and Illness Management and Recovery Skills

Source: Administrative Data Systems (Core Measure)

Table 18. Profile of Adults with Schizophrenia receiving New Generation of Medications

Source: Administrative Data Systems

Table 19. Summary Profile of Client Outcomes for Children with Increased Level of School Attendance, Children who have had Contact with the Juvenile Justice System, and Adults who have had Contact with the Criminal Justice System

Source: Administrative Data Systems (Core Measure)

Table 20. Rate of Readmission to State Psychiatric Hospitals within 30 days and 180 days.

Source: State Hospital Administrative Data Systems (Core Measure)

Dated: March 29, 2004.
Margaret Gilliam,
Acting Director, Office of Policy, Planning and Budget, Substance Abuse and Mental Health Services Administration.

[FR Doc. 04-7611 Filed 4-2-04; 8:45 am]

BILLING CODE 4162-20-P